DEPARTMENT OF EDUCATION

Tests Determined To Be Suitable for Use in the National Reporting System for Adult Education

AGENCY: Office of Career, Technical, and Adult Education, Department of Education.

ACTION: Notice.

SUMMARY: The Secretary announces tests, test forms, and delivery formats that the Secretary determines to be suitable for use in the National Reporting System for Adult Education (NRS). This notice relates to the approved information collections under OMB control numbers 1830-0027 and 1830-0567.

FOR FURTHER INFORMATION CONTACT: John LeMaster, Department of Education, 400 Maryland Avenue SW, Washington, DC 20202. Telephone: 202-987-0903. Email: John.LeMaster@ed.gov.

If you are deaf, hard of hearing, or have a speech disability and wish to access telecommunications relay services, please dial 7-1-1.

SUPPLEMENTARY INFORMATION: On January 14, 2008, we published in the Federal Register final regulations for 34 CFR part 462, Measuring Educational Gain in the National Reporting System for Adult Education (73 FR 2305, January 14, 2008, as amended at 81 FR 55552, August 19, 2016) (NRS regulations). The NRS regulations established the process the Secretary uses to determine the suitability of tests for use in the NRS by States and local eligible providers. We annually publish in the Federal Register, and post on the internet at www.nrsweb.org, a list of the names of tests and the educational functioning levels the tests are suitable to measure in the NRS as required by § 462.12(c)(2).

On August 7, 2020, the Secretary published in the Federal Register (85 FR 47952) an annual notice consolidating information from previous notices that announced tests determined to be suitable for use in the NRS, in accordance with § 462.13 (August 2020 annual notice). Also, in the August 2020 annual notice, the Secretary announced that English as a Second Language (ESL) tests and test forms approved for an extended period through February 2, 2021, are approved for an additional extended period through February 2, 2023, and that an Adult Basic Education (ABE) test and test forms previously approved for a three-year period through March 7, 2021, are approved for an extended period through March 7, 2023.

On December 6, 2021, the Secretary published in the Federal Register (86 FR 69021), an annual notice with the same list of approved tests and test forms as was published in the August 2020 annual notice.

On September 23, 2022, the Secretary published in the Federal Register (87 FR 58078) an annual notice announcing that ESL tests and test forms previously approved for an extended period through February 2, 2023, were approved for an additional extended period through February 2, 2024, and that an ABE test and test forms previously approved for an extended period through March 7, 2023, were approved for an additional extended period through March 7, 2024.

On July 13, 2023, the Secretary published in the Federal Register (88 FR 44784) an annual notice announcing new tests that were determined to be suitable for use in the NRS, in accordance with § 462.13 (July 2023 annual notice). Three tests measured the NRS educational functioning levels for ABE at the ABE levels specified in the July 2023 annual notice, and four tests measured the new NRS educational functioning levels for ESL at the ESL levels specified in the July 2023 annual notice. With the Secretary's approval of the new ESL tests in the July 2023 annual notice, the new educational functioning levels for ESL described in Appendix A of Measures and Methods for the National Reporting System for Adult Education (OMB Control Number: 1830-0027) were implemented. In the July 2023 annual notice, the Secretary announced that ESL tests with NRS approvals expiring on February 2, 2024, may be used in the NRS during a sunset period ending on June 30, 2024.

On August 24, 2023, the Secretary published a notice in the Federal Register (88 FR 57949) correcting the name of one test listed in the July 2023 annual notice. All other information in the July 2023 annual notice remained the same.

On March 18, 2024, the Secretary published in the Federal Register (89 FR 19307) a notice announcing that the sunset period for ESL tests scheduled to sunset on June 30, 2024, is extended through June 30, 2025. This extension of the sunset period will allow States sufficient time for the operational activities required for the transition to the new ESL assessments identified in the July 2023 annual notice.

The ESL educational functioning level descriptors to which the ESL tests with expiring NRS approvals are aligned and that were scheduled to be retired on June 30, 2024, are extended through June 30, 2025. Until that time, both the current ESL educational functioning level descriptors and the new ESL educational functioning level descriptors will be in effect. States must use an ESL assessment that is aligned to the appropriate ESL educational functioning level descriptors.

In this notice, the Secretary announces two new tests and test forms that have been determined to be suitable for use in the NRS, in accordance with § 462.13. The tests measure the NRS educational functioning levels at all ABE and ESL levels, as described in Appendix A of Measures and Methods for the National Reporting System for Adult Education (OMB Control Number 1830-0027). These tests and their test forms are approved for a period of three years from the publication date of this notice. A three-year approval is issued with a set of conditions that must be met by the completion of the three-year time period. If these conditions are met, the test would be approved for continued use in the NRS.

This notice also updates the delivery formats available for two tests with a three-year approval announced in the July 2023 annual notice and approved for use until July 13, 2026.

Under the transition rules in § 462.4, the Secretary also announces in this notice a test with NRS approval expiring on September 7, 2024, which States and local eligible providers may continue to use during a sunset period ending on June 30, 2025.

Adult education programs must use only the forms and computer-based delivery formats for the tests approved in this notice. If a particular test form or computer delivery format is not explicitly specified for a test in this notice, it is not approved to measure educational gain in the NRS.

Tests Determined To Be Suitable for Use in the NRS for a Three-Year Period From the Publication Date of This Notice

The Secretary has determined that the following test is suitable for use in Literacy/English Language Arts and Mathematics at all ABE levels of the NRS for a period of three years from the publication date of this notice:

Tests of Adult Basic Education (TABE 13/14). Forms 13 and 14 are approved for use on paper and through a computer-based delivery format. Publisher: Data Recognition Corporation—CTB, 13490 Bass Lake Road, Maple Grove, MN 55311. Telephone: 800-538-9547. Internet: www.tabetest.com.

The Secretary has determined that the following tests are suitable for use at all ESL levels of the NRS for a period of three years from the publication date of this notice:

Tests of Adult Basic Education Complete Language Assessment System-English (TABE/CLAS-E). Forms C and D are approved for use on paper and through a computer-based delivery format. Publisher: Data Recognition Corporation—CTB, 13490 Bass Lake Road, Maple Grove, MN 55311. Telephone: (800) 538-9547. Internet: www.tabetest.com.

Tests Determined To Be Suitable for Use in the NRS for a Three-Year Period From the Publication Date of the Original Notice in Which They Were Announced

The Secretary has determined that the following test is suitable for use in Mathematics at all ABE levels of the NRS until July 13, 2026:

ACT WorkKeys Applied Math. Forms 014, 015, 016, and 017 are approved for use through a computer-based delivery format. Publisher: ACT, 500 ACT Drive, Iowa City, Iowa 52243-0168. Telephone: (319) 337-1270. Internet: www.act.org.

The Secretary has determined that the following test is suitable for use in Literacy/English Language Arts at ABE levels 2 through 6 of the NRS until July 13, 2026:

ACT WorkKeys Workplace Documents. Forms 018, 019, 020, and 021 are approved for use through a computer-based delivery format. Publisher: ACT, 500 ACT Drive, Iowa City, Iowa 52243-0168. Telephone: (319) 337-1270. Internet: www.act.org.

Test With NRS Approval Expiring on September 7, 2024, That May Be Used in the NRS During a Sunset Period Ending on June 30, 2025

The Secretary has determined that the following test is suitable for use in Literacy/English Language Arts and Mathematics at all ABE levels of the NRS during a sunset period ending on June 30, 2025:

Tests of Adult Basic Education (TABE 11/12). Forms 11 and 12 are approved for use on paper and through a computer-based delivery format. Publisher: Data Recognition Corporation—CTB, 13490 Bass Lake Road, Maple Grove, MN 55311. Telephone: 800-538-9547. Internet: www.tabetest.com.

Revocation of Tests

Under certain circumstances—i.e., a determination by the Secretary either that the information the publisher submitted as a basis for the Secretary's review of the test was inaccurate or that a test has been substantially revised—the Secretary may revoke the determination that a test is suitable after following the procedures in § 462.12(e). If the Secretary revokes the determination of suitability, the Secretary announces the revocation, as well as the date by which States and local eligible providers must stop using the revoked test, through a notice published in the Federal Register and posted on the internet at www.nrsweb.org.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Program Authority: 29 U.S.C. 3292.

Amy Loyd,
Assistant Secretary for Career, Technical, and Adult Education.

[FR Doc. 2024-13426 Filed 6-18-24; 8:45 am]

BILLING CODE 4000-01-P